DEPARTMENT OF TRANSPORTATION

Federal Highway Administration

Rescinding the Notice of Intent for an Environmental Impact Statement: Washington and Benton Counties, Arkansas

AGENCY: Federal Highway Administration (FHWA), DOT.

ACTION: Rescind Notice of Intent (NOI) to prepare an Environmental Impact Statement (EIS).

SUMMARY: The FHWA is issuing this notice to advise the public that the NOI for the preparation of an EIS to study a proposed intermodal highway project in Washington and Benton Counties, Arkansas is being rescinded. The NOI was published in the Federal Register on February 4, 2000, and a draft EIS was released in October 2012. This rescission is based on important changes in the existing infrastructure that allows for a substantially reduced scope of work.

FOR FURTHER INFORMATION CONTACT: Peter A. Jilek, FHWA—Acting Division Administrator, Arkansas Division Office, 700 West Capitol Ave., Rm. 3130, Little Rock, AR 72201-3298; 501-324-5625; fax: 501-324-6423.

SUPPLEMENTARY INFORMATION: The FHWA in cooperation with the Arkansas Department of Transportation and the Northwest Regional Airport Authority, initiated a study to identify a new intermodal access road to the Northwest Regional Airport. The project was studied as a toll facility connecting the Northwest Regional Airport to either US 71 (currently I-49) or US 412 for approximately eight to twelve miles. A preferred alternative was not determined. The NOI for the previously notified EIS is being rescinded due to important infrastructure changes affecting the originally proposed alternatives. With the upgrade of US 71 to I-49 and the construction of the Northern Springdale Bypass the scale of the project, the range of alternatives, and the potential for significant impacts is substantially reduced. The reduced scope allows for a separate project to be completed that will satisfy the purpose and need and would likely be studied as an Environmental Assessment.

Comments and questions concerning the proposed action should be directed to the FHWA contact person at the address provided above.

Authority: 23 U.S.C. 315; 49 CFR 1.48 rescind.

Issued on: January 9, 2010.
Peter A. Jilek,
Acting Division Administrator, Little Rock, AR.

[FR Doc. 2020-00900 Filed 1-17-20; 8:45 am]

BILLING CODE 4910-RY-P